DEPARTMENT OF DEFENSE

Office of the Secretary

[Docket ID: DoD-2013-OS-0097]

Privacy Act of 1974; System of Records

AGENCY: Defense Information Systems Agency, DoD.

ACTION: Notice to delete seven Systems of Records Notices.

SUMMARY: The Defense Information Systems Agency is deleting seven systems of records notices in its existing inventory of record systems subject to the Privacy Act of 1974 (5 U.S.C. 552a), as amended.

DATES: This proposed action will be effective on June 10, 2013 unless comments are received which result in a contrary determination. Comments will be accepted on or before June 10, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Jeanette Weathers-Jenkins, 6916 Cooper Avenue, Fort Meade, MD 20755-7901, or (301) 225-8158.

SUPPLEMENTARY INFORMATION: The Defense Information Systems Agency systems of records notices subject to the Privacy Act of 1974 (5 U.S.C. 552a), as amended, have been published in the Federal Register and are available from the address in FOR FURTHER INFORMATION CONTACT. The proposed deletions are not within the purview of subsection (r) of the Privacy Act of 1974 (5 U.S.C. 552a), as amended, which requires the submission of a new or altered system report.

Dated: May 2, 2013.
Aaron Siegel,
Alternate OSD Federal Register Liaison Officer, Department of Defense.

Deletion:

KEUR.09, Noncombatant Information Card, AEZ Form 6-106 (February 22, 1993, 58 FR 10562).

Reason:

This system of records notice is no longer required; USAREUR no longer has a Non-Combatant Evacuation Operation (NEO) Program which was rescinded over 10 years ago. All records have met their retention; therefore, KEUR.09, Noncombatant Information Card, AEZ Form 6-106, can be deleted.

Deletions:

KWHC.02, Military Personnel Files System (February 22, 1993, 58 FR 10562).

K890.04, Military Personnel Management/Assignment Files (June 16, 2009, 74 FR 28481).

KDEC.06, Nominations/Enrollments for Training Courses (February 22, 1993, 58 FR 10562).

K890.07, Education, Training, and Career Development Data System (February 22, 1993, 58 FR 10562).

KWHC.01, Agency Training File System (June 16, 2009, 74 FR 28480).

KWHC.05, Personnel Information System (February 22, 1993, 58 FR 10562).

Reason:

Based on a recent review of the systems of records notices KWHC.02, Military Personnel Files System (February 22, 1993, 58 FR 10562), K890.04, Military Personnel Management/Assignment Files (June 16, 2009, 74 FR 28481) and KDEC.06, Nominations/Enrollments for Training Courses (February 22, 1993, 58 FR 10562), K890.07, Education, Training, and Career Development Data System (February 22, 1993, 58 FR 10562), KWHC.01, Agency Training File System (June 16, 2009, 74 FR 28480), and KWHC.05, Personnel Information System (February 22, 1993, 58 FR 10562), it has been determined that they are covered by DoD wide systems of records notices DMDC 02 DoD, Defense Enrollment Eligibility Reporting System (DEERS) (November 21, 2012, 77 FR 69807) and DMDC 01, Defense Manpower Data Center Data Base (November 23, 2011, 76 FR 72391); and therefore, the notices above can be deleted. The DoD-wide notices can be found at http://dpclo.defense.gov/privacy/SORNs/component/osd/DMDC01.html, http://dpclo.defense.gov/privacy/SORNs/component/osd/DMDC02.html.

[FR Doc. 2013-10987 Filed 5-8-13; 8:45 am]

BILLING CODE 5001-06-P